DEPARTMENT OF AGRICULTURE

Forest Service

DEPARTMENT OF THE INTERIOR

Bureau of Land Management

[OR-030-08-5101-ER-H048; OROR-065375; IDI-036029; HAG-08-0199]

Notice of Intent To Prepare an Environmental Impact Statement (EIS) for the Boardman-Hemingway 500 kilovolt (kV) Transmission Line Project (Project) in Idaho and Oregon and Possible Land Use Plan Amendments

AGENCIES: Bureau of Land Management, DOI; and Forest Service, USDA.

ACTION: Notice of Intent to prepare an Environmental Impact Statement, possible land use plan amendments, and notice of public scoping meetings.

SUMMARY: Pursuant to section 102 (2)(C) of the National Environmental Policy Act (NEPA) of 1969 and in response to right-of-way (ROW) applications filed by Idaho Power Company, the Bureau of Land Management (BLM), Vale District Office, and U.S. Forest Service (USFS), Wallowa-Whitman National Forest announce their intent to prepare an EIS and conduct public scoping meetings. Idaho Power Company proposes to construct, operate, and maintain a single circuit 500 kV overhead electric transmission line and appurtenant facilities beginning near Boardman, Oregon, and terminating near Melba, Idaho. The proposed route roughly parallels Interstate 84 and is approximately 278 miles long. Authorization of this Project may require the amendment of USFS or BLM land use plans.

DATES: This notice initiates the public scoping process as required by NEPA. The BLM and USFS request that public comments be submitted by November 14, 2008. To provide the public an opportunity to review project information, public meetings are planned in Idaho and Oregon in communities near the proposed route. The following communities are being considered for meeting locations: Ontario, Baker City, La Grande, Pendleton, Pilot Rock, Hermiston, and Boardman, Oregon; Marsing and Homedale, Idaho. The scoping meetings will be conducted in an “open house” format. Staff from the BLM, USFS, Oregon Department of Energy, Idaho Power Company, and environmental contractors will be available to answer questions and explain their respective roles and responsibilities. The BLM and USFS will announce the exact meeting dates, times, and locations at least 15 days prior to the event. Announcements will be made by news release, individual postcard mailings, and posting on the Project Web site (http://www.boardmantohemingway.com).

ADDRESSES: You may submit comments by any of the following methods:

• Web site: http://www.boardmantohemingway.com.

• E-mail: B2HComments@blm.gov.

• Mail: Bureau of Land Management, Vale District Office, 100 Oregon Street, Vale, Oregon, 97918, Attention: Lucas Lucero.

Documents pertinent to the ROW application are on file and may be examined at:

• Bureau of Land Management, Vale District Office, 100 Oregon Street, Vale, Oregon, 97918.

• U.S. Forest Service, Wallowa-Whitman Supervisor's Office, 1550 Dewey Avenue, Baker City, Oregon, 97814.

• U.S. Forest Service, La Grande Ranger District, 3502 Highway 30, La Grande Oregon, 97850.

SUPPLEMENTARY INFORMATION: Idaho Power Company has submitted ROW applications to construct, operate, and maintain a 500kV single circuit overhead electric transmission line on Federal lands. The purpose and need of the Project is to relieve existing congestion, capacity, and reliability constraints and allow for the delivery of up to 1500 megawatts (MW) of additional energy to target service areas principally in Idaho and Utah. The proposed project begins near Boardman, Oregon, just north of the Boardman Power Plant, at the newly proposed Boardman Substation. The Project route continues southeast to interconnect with the Hemingway Substation in southeastern Oregon. The Hemingway Substation is being planned and built separately from this Project and will be built regardless of the outcome of this Project so the Hemingway Substation will not be analyzed in this EIS. The Project route then proceeds southeast and terminates near Melba, Idaho, at the newly proposed Sand Hollow Substation. The proposed route is approximately 278 miles long. The requested ROW width is 250 feet. Idaho Power Company proposes to utilize steel lattice type structures approximately 150 feet in height with average spans between towers of 1200 feet. Access roads would be approximately 14 to 20 feet wide. Additional temporary work space would also be required during construction. Approximately 195 miles or 70 percent of the route is privately owned; 45 miles or 16 percent is administered by the BLM; 27 miles or 10 percent is administered by the USFS; and 11 miles or 4 percent is administered by the State of Oregon or other jurisdictions.

The route generally parallels Interstate 84 and other existing overhead and underground utilities and roadways. The proposed route also makes use of existing or proposed utility corridors on Federal lands. The BLM is the designated lead Federal agency for preparation of the EIS. Cooperating agencies identified at this time include: USFS, Wallowa-Whitman National Forest, and the State of Oregon Department of Energy. Other agencies will be invited to participate as cooperating agencies. The EIS will analyze the proposed action and a reasonable range of route alternatives. The BLM and USFS encourage you to send your comments concerning the Project as currently proposed, feasible alternative locations, possible mitigation measures, and any other information relevant to the Project. Authorization of the Project may require amendments to one or more of the following BLM land use plans: Baker Resource Management Plan, Southeastern Oregon Resource Management Plan, Owyhee Resource Management Plan, Cascade Resource Management Plan, and one or more of the following USFS Forest Plans: Wallowa-Whitman Forest Land and Resource Management Plan. This notice serves to notify the public of these potential land use plan amendments as required by 43 CFR 1610.2 (c) and 36 CFR 219.7(c). If a land use plan amendment is determined to be required, the BLM and/or USFS will integrate the land use planning process into the NEPA analysis for this Project. Public input is important to ensure project-specific issues are evaluated prior to the agencies making a decision. Comments submitted timely will be considered in the NEPA process. Comments received after November 14, 2008 will be considered to the extent feasible. Please note that public comments and information submitted including names, street addresses, and e-mail addresses of respondents will be available for public review and disclosure at the above address during normal business hours (7:45 a.m. to 4:30 p.m.) Monday through Friday, except for Federal holidays. Before including your address, phone number, e-mail address, or other personal identifying information in your comment, you should be aware that your entire comment—including your personal identifying information—may be made publicly available at any time. While you can ask us in your comment to withhold your personal identifying information from public review, we cannot guarantee that we will be able to do so. Periodic project updates during preparation of the EIS will be provided to the public through additional informational meetings, newsletters, postcard notices, or through the project Web site.

FOR FURTHER INFORMATION CONTACT: For further information or to have your name added or removed from the project mailing list, contact Lucas Lucero, BLM Project Manager, (702) 515-5059 or Lucas_Lucero@blm.gov.

Dated: September 8, 2008.
David R. Henderson,
District Manager.
Dated: September 8, 2008.
Steven Ellis,
Forest Supervisor.

[FR Doc. E8-21285 Filed 9-11-08; 8:45 am]

BILLING CODE 4310-33-P